NATIONAL FOUNDATION ON THE ARTS AND THE HUMANITIES

National Endowment for the Arts; Arts Advisory Panel

Pursuant to Section 10(a)(2) of the Federal Advisory Committee Act (Public Law 92-463), as amended, notice is hereby given that five meetings of the Arts Advisory Panel to the National Council on the Arts will be held at the Nancy Hanks Center, 1100 Pennsylvania Avenue, NW., Washington, DC 20506 as follows (ending times are approximate):

State and Regional Partnerships (Partnership Agreements review): January 4-5, 2007 in Room 716. This meeting, from 9 a.m. to 10:15 a.m. and 12:30 p.m. to 5:30 p.m. on January 4th, and from 9 a.m. to 2 p.m. on January 5th, will be open. A policy discussion will be held from 11:30 a.m. to 12:30 p.m. on January 5th.

Visual Arts (application review): January 9-10, 2007 in Room 730. This meeting, from 9 a.m. to 5:30 p.m. on January 9th and from 9 a.m. to 3 p.m. on January 10th, will be closed.

Media Arts (application review): January 10-12, 2007 in Room 716. This meeting, from 9 a.m. to 6 p.m. on January 10th and 11th and from 9 a.m. to 5:30 p.m. on January 12th, will be closed.

Folk and Traditional Arts (nominations review) January 16-19, 2007 in Room 716. This meeting, from 9 a.m. to 6:30 p.m. on January 16th and 17th, from 9 a.m. to 5:30 p.m. on January 18th, and from 9 a.m. to 3:30 p.m. on January 19th, will be closed.

State and Regional Partnerships (Partnership Agreements review): January 24-25, 2007 in Room 716. This meeting, from 9:30 a.m. to 6 p.m. on January 24th, and from 8:30 a.m. to 3:30 p.m. on January 25th, will be open. A policy discussion will be held from 1 p.m. to 2:30 p.m. on January 25th.

The closed portions of meetings are for the purpose of Panel review, discussion, evaluation, and recommendations on financial assistance under the National Foundation on the Arts and the Humanities Act of 1965, as amended, including information given in confidence to the agency. In accordance with the determination of the Chairman of April 8, 2005, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202/682-5691.

Dated: December 7, 2006.
Kathy Plowitz-Worden,
Panel Coordinator, Panel Operations, National Endowment for the Arts.

[FR Doc. E6-21203 Filed 12-12-06; 8:45 am]

BILLING CODE 7537-01-P